DEPARTMENT OF EDUCATION

[CFDA Number 84.295A]

Ready-to-Learn Television Program

AGENCY: Office of Innovation and Improvement, Department of Education.

ACTION: Notice inviting applications for new awards for fiscal year (FY) 2010; Correction.

SUMMARY: On March 22, 2010, we published in the Federal Register (75 FR 13515) a notice inviting applications for new awards for FY 2010 for the Ready-to-Learn Television Program. We have extended the deadline for transmittal of applications and removed the paragraph on maximum award amount.

SUPPLEMENTARY INFORMATION: This notice extends the deadline for transmittal of applications and eliminates the maximum award amount originally established for applicants by removing the paragraph that establishes a maximum award amount. We are taking this action because the maximum award amount was established as the result of an administrative error and unduly restricts applicant flexibility. These changes affect three pages of the March 22nd notice, as follows:

Correction

(1) On page 13515, in the first column, after the words Deadline for Transmittal of Applications, replace the date “May 21, 2010” with the date “June 22, 2010.”

(2) On page 13517, in the third column, the Maximum Award paragraph is removed.

(3) On page 13518, in the second column, after the words Deadline for Transmittal of Applications, replace the date “May 21, 2010” with the date “June 22, 2010.”

FOR FURTHER INFORMATION CONTACT: The Ready-to-Learn Television Program, U.S. Department of Education, 400 Maryland Avenue, SW., Room 4W414, Washington, DC 20202 or by e-mail: readytolearn@ed.gov.

If you use a telecommunications device for the deaf, call the Federal Relay Service, toll free, at 1-800-877-8339.

Electronic Access to This Document: You can view this document, as well as all other documents of this Department published in the Federal Register, in text or Adobe Portable Document Format (PDF) on the Internet at the following site: www.ed.gov/news/fedregister. To use PDF you must have Adobe Acrobat Reader, which is available free at this site.

Note: The official version of this document is the document published in the Federal Register. Free Internet access to the official edition of the Federal Register and the Code of Federal Regulations is available on GPO Access at: www.gpoaccess.gov/nara/index.html.

Dated: May 18, 2010.
James H. Shelton, III,
Assistant Deputy Secretary for Innovation and Improvement.

[FR Doc. 2010-12308 Filed 5-21-10; 8:45 am]

BILLING CODE 4000-01-P